FEDERAL COMMUNICATIONS COMMISSION

47 CFR Part 54

[CC Docket No. 96-45 and WC Docket No. 05-337, FCC 06-69]

Federal-State Joint Board on Universal Service, High-Cost Universal Service Support

AGENCY: Federal Communications Commission.

ACTION: Interim order.

SUMMARY: In this document, the Commission extends the high-cost universal service support rules adopted in, among others, the Rural Task Force Order on an interim basis until the Commission concludes its rural review proceeding and adopts changes, if any, to those rules as a result of that proceeding.

DATES: Effective June 26, 2006, the framework adopted at 66 FR 30081, June 5, 2001, is extended.

FOR FURTHER INFORMATION CONTACT: Katie King, Special Counsel, Wireline Competition Bureau, Telecommunications Access Policy Division, (202) 418-7400, TTY (202) 418-0484.

SUPPLEMENTARY INFORMATION: This is a summary of the Commission's Order, in CC Docket No. 96-45 and WC Docket No. 05-337, released May 16, 2006. The full text of this document is available for public inspection during regular business hours in the FCC Reference Center, Room CY-A257, 445 12th Street, SW., Washington, DC 20554.

I. Introduction

1. This Order, extends the high-cost universal service support rules adopted in the Rural Task Force Order, Fourteenth Report and Order and Twenty-Second Order on Reconsideration, 66 FR 30080, June 5, 2001 and 66 FR 34603, June 20, 2001, on an interim basis until the Commission concludes its rural review proceeding and adopts changes, if any, to those rules as a result of that proceeding. Based on the recommendations of the Rural Task Force and the Federal-State Joint Board on Universal Service (Joint Board), the Commission adopted a modified embedded cost support mechanism for rural carriers for a five-year period beginning on July 1, 2001. Thus, the Commission intended that the Rural Task Force plan would remain in effect util June 30, 2006. At the same time, the Commission expected to complete a review, with Joint Board input, of the rules relating to the rural high-cost support mechanism before the end of the five year period.

2. On June 28, 2004, the Commission asked the Joint Board to review the Commission's rules relating to high-cost support for rural carriers and to determine the appropriate rural mechanism to succeed the five-year plan adopted in the Rural Task Force Order. On August 16, 2004, the Commission released a Joint Board Public Notice seeking comment on the rural review issues referred to the Joint Board. On August 17, 2005, the Commission released another Joint Board Public Notice seeking comment on several proposals that state Joint Board members and staff had developed. The Joint Board has been diligently reviewing the record and considering what support mechanism should succeed the Rural Task Force plan. Nonetheless, the Commission finds that it may not have adequate time after the Joint Board issues a recommended decision in the rural review proceeding to develop a record on that recommendation and to adopt any changes to the current rules prior to June 30, 2006. In light of the ongoing Joint Board review, the interim nature of these rules, and the need to ensure continuity pending further Commission action, good cause exists to extend the rural high-cost support rules adopted in the Rural Task Force Order. The Commission also finds it has authority to adopt interim rules without notice and comment when necessary. 5 U.S.C. 553(b)(3)(B); see Mid-Tex Elec. Coop., Inc. v. FERC, 822 F.2d 1123 (D.C. Cir. 1987). Accordingly, the rural high-cost support rules adopted in the Rural Task Force Order, as amended, will remain in effect after this date until the Commission adopts new high-cost support rules for rural carriers.

3. Pursuant to the authority contained in sections 1-4, 201-205, 214, 218-220, 254, 303(r), 403, 405, and 410 of the Communications Act of 1934, as amended, 47 U.S.C. 151-154, 201-205, 214, 218-220, 254, 303(r), 403, 405, and 410, that this Order in CC Docket No. 96-45 and WC Docket No. 05-337 is adopted.

4. The extension of the high-cost universal service support rules applicable to rural carriers shall be effective June 26, 2006.

Federal Communications Commission.
Marlene H. Dortch,
Secretary.

[FR Doc. 06-4856 Filed 5-25-06; 8:45am]

BILLING CODE 6712-01-M